ENVIRONMENTAL PROTECTION AGENCY

[FRL-8187-8]

Proposed Cercla Administrative Cost Recovery Settlement; Chester Realty Trust and Warren W. Kean, Mohawk Tannery Superfund Site, Nashua, NH

AGENCY: Environmental Protection Agency (EPA).

ACTION: Notice of proposed settlement; request for public comment.

SUMMARY: In accordance with Section 122(i) of the Comprehensive Environmental Response, Compensation, and Liability Act, as amended (“CERCLA”), 42 U.S.C. 9622(i), notice is hereby given of a proposed administrative settlement for recovery of costs concerning the Mohawk Tannery Superfund Site in Nashua, New Hampshire (“Site”). The settlement resolves the liability of Chester Realty Trust, which is the owner of the Site, and Warren W. Kean (“Settling Parties”) for the recovery of costs incurred and to be incurred by the United States and the State of New Hampshire (“Government Parties”) in response to releases and threatened releases of hazardous substances at the Site pursuant to Sections 106 and 107(a) of the Comprehensive Environmental Response, Compensation, and Liability Act, as amended (“CERCLA”), 42 U.S.C. 9606 and 9607(a). EPA has incurred $3,452,311.00 in response costs relating to this Site. This is an ability to pay settlement based upon EPA's review of financial documentation provided to the United States by the Settling Parties. This settlement calls for the liquidation of all property owned by Chester Realty Trust, including the Site property, and payment of net insurance proceeds from claims made against insurance carriers. In addition, Warren W. Kean will make a cash payment to the Government Parties. The settlement includes a covenant not to sue the Settling Parties pursuant to Sections 106 and 107(a) of CERCLA, 42 U.S.C. 9606 and 9607(a). For thirty (30) days following the date of publication of this notice, the Agency will receive written comments relating to the settlement. The Agency will consider all comments received and may modify or withdraw its consent to the settlement if comments received disclose facts or considerations which indicate that the settlement is inappropriate, improper, or inadequate.

The Agency's response to any comments received will be available for public inspection at One Congress Street, Boston, MA 02214-2023 (Telephone No. 617-918-1089).

DATES: Comments must be submitted on or before July 24, 2006.

ADDRESSES: Comments should be addressed to Eve Vaudo, Senior Enforcement Counsel, U.S. Environmental Protection Agency, Region I, One Congress Street, Suite 1100 (SES), Boston, Massachusetts 02114-2023 (Telephone No. 617-918-1089) and should refer to: In re: Mohawk Tannery Superfund Site, U.S. EPA Docket No. 01-2005-0053.

FOR FURTHER INFORMATION CONTACT: A copy of the proposed settlement may be obtained from Tina Hennessy, U.S. Environmental Protection Agency, Region I, Office of Site Remediation & Restoration, One Congress Street, Suite 1100 (HBR), Boston, MA 02114-2023 (Telephone No. 617-918-1216; E-mail hennessy.tina@epa.gov).

Dated: April 28, 2006.
Susan Studlien,
Director, Office of Site Remediation & Restoration, EPA Region 1.

[FR Doc. E6-9871 Filed 6-21-06; 8:45 am]

BILLING CODE 6560-50-P